ENVIRONMENTAL PROTECTION AGENCY

[OPP-00687A; FRL-6755-2]

FIFRA Scientific Advisory Panel; Announcement of change of Public Meeting Dates

AGENCY: Environmental Protection Agency (EPA).

ACTION: Notice.

SUMMARY: EPA is announcing a change in the dates of a public meeting of the FIFRA Scientific Advisory Panel which was originally published in the Federal Register of November 3, 2000. Meetings were scheduled to be held on December 6, 7, and 8, 2000. The December 6 meeting has been dropped, therefore, meetings will only be held on December 7 and 8, 2000.

DATES: Meetings of the FIFRA Scientific Advisory Panel will be held on December 7 and 8, 2000, from 8:30 a.m. to 5:30 p.m.

ADDRESSES: The meeting will be held at the Sheraton Crystal City Hotel, 1800 Jefferson Davis Highway, Arlington, VA. The telephone number for the Sheraton Hotel is (703) 486-1111. Requests to participate may be submitted by mail, electronically, or in person. Please follow the detailed instructions for each method as provided in Unit I.C. of the originally published notice of November 3, 2000.

FOR FURTHER INFORMATION CONTACT: Olga Odiott, Designated Federal Official, Office of Science Coordination and Policy, (7101C), Office of Prevention, Pesticides and Toxic Substances, Environmental Protection Agency, 1200 Pennsylvania Ave., NW., Washington, DC 20460; telephone number: (703) 305-5369; fax number: (703) 605-0656; e-mail address: odiott.olga@epa.gov.

SUPPLEMENTARY INFORMATION:

I. General Information

A. Does this Action Apply to Me?

This action is directed to the public in general. This action may, however, be of interest to those persons who are or may be required to conduct testing of chemical substances under the Federal Food, Drug and Cosmetic Act (FFDCA), FIFRA, and FQPA. Since other entities may also be interested, the Agency has not attempted to describe all the specific entities that may be affected by this action. If you have any questions regarding the applicability of this action to a particular entity, consult the person listed under FOR FURTHER INFORMATION CONTACT.

II. Purpose of this Notice

EPA is announcing a change in dates of a public meeting of the FIFRA Scientific Advisory Panel which was published in the Federal Register of November 3, 2000 (65 FR 66245) (FRL-6753-4). Meetings had been scheduled to be held on December 6, 7, and 8, 2000, but because the session on the LifeLine™ Model Review will not be taking place at this time, the meetings will be held only on December 7 and 8, 2000.

List of Subjects

Environmental protection.

Dated: November 16, 2000.
Steven K. Galson,
Director, Office of Science Coordination and Policy, Office of Prevention, Pesticides and Toxic Substances.

[FR Doc. 00-29868 Filed 11-17-00; 2:15 pm]

BILLING CODE 6560-50-S